ENVIRONMENTAL PROTECTION AGENCY

[EPA-HQ-OAR-2004-0501; FRL-9892-01-OMS]

Information Collection Request Submitted to OMB for Review and Approval; Comment Request; Green Power Partnership and Combined Heat and Power Partnership (Renewal)

AGENCY: Environmental Protection Agency (EPA).

ACTION: Notice.

SUMMARY: The Environmental Protection Agency (EPA) has submitted an information collection request (ICR), Green Power Partnership and Combined Heat and Power Partnership (EPA ICR Number 2173.08, OMB Control Number 2060-0578) to the Office of Management and Budget (OMB) for review and approval in accordance with the Paperwork Reduction Act. This is a proposed extension of the ICR, which is currently approved through May 31, 2022. Public comments were previously requested via the Federal Register on September 23, 2021 during a 60-day comment period. This notice allows for an additional 30 days for public comments. A fuller description of the ICR is given below, including its estimated burden and cost to the public. An agency may not conduct or sponsor and a person is not required to respond to a collection of information unless it displays a currently valid OMB control number.

DATES: Additional comments may be submitted on or before June 27, 2022.

ADDRESSES: Submit your comments, referencing Docket ID Number EPA-HQ-OAR-2004-0501, online using www.regulations.gov (our preferred method) or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Rebecca Taylor, Climate Protection Partnerships Division, Office of Atmospheric Programs, MC 6202A, Environmental Protection Agency, 1200 Pennsylvania Ave. NW, Washington, DC 20460; telephone number: 202-564-5211; email address: taylor.rebecca@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: In 2002, EPA's Energy Supply and Industry Branch (ESIB) launched two partnership programs with industry and other stakeholders: The Green Power Partnership (GPP) and the Combined Heat and Power Partnership (CHPP). These voluntary partnership programs encourage organizations to invest in renewable energy and combined heat and power.

EPA has developed this ICR to obtain authorization to collect information from organizations participating in the GPP, CHPP, and other ESIB programs. Organizations that join these programs voluntarily agree to the following respective actions: (1) Designating a GPP or CHPP liaison and filling out a Partnership Agreement; (2) for the CHPP, information from stakeholders that download Partnership tools and for the GPP, (3), reporting to EPA, on an annual basis, their progress toward their green power commitment. EPA uses the data obtained from its Partners to assess the success of these programs in achieving their national energy and greenhouse gas (GHG) reduction goals. Partners are organizational entities that have volunteered to participate in either Partnership program.

EPA needs to collect the information in the Partnership Agreements to formally establish participation in the GPP or CHPP program and to obtain general information about new Partners. Additional information collected through information forms is needed to allow EPA to track Partner progress toward meeting their GPP commitments, to enable GPP to facilitate and encourage green power use, to assess whether actions are worthy of recognition, and to determine progress in meeting GPP's national energy and GHG reduction goals. EPA uses the information submitted in additional forms to monitor the progress of current participation and projects and identify new opportunities. EPA also uses the data submitted by GPP and CHPP Partners to prepare reports on GPP progress and determine the GHG reductions achieved by the program. General information on the Partners, green power, and CHP is also provided on the respective websites, making it available to other Partners and the public.

Form Numbers: EPA-430-K-05-013, 5900-583, 5900-584, 5900-585.

Respondents/affected entities: Companies, institutional and public-sector organizations that voluntarily participate in the EPA's Green Power Partnership (GPP) or Combined Heat and Power Partnership (CHPP). These include both service and goods providing industries, educational institutions and non-governmental organizations, commercial and industrial organizations, and local, state, or federal government agencies.

Respondent's obligation to respond: Voluntary.

Estimated number of respondents: 761 (total).

Frequency of response: Annually, on occasion, one time.

Total estimated burden: 1,445 hours (per year). Burden is defined at 5 CFR 1320.03(b).

Total estimated cost: $81,314 (per year), which includes no annualized capital or operation & maintenance costs.

Changes in the Estimates: There is a decrease of 5,635 hours in the total estimated respondent burden compared with the ICR currently approved by OMB. This decrease results from both the GPP and CHPP having updated their program requirements to reduce program burden and simplified collection forms into pre-populated spreadsheets or documents. As a result of these changes, the average number of hours per Partner has decreased from 2.87 hours to 1.89 hours. Additionally, the total number of partners was significantly reduced in both programs. The number of respondents has declined from 1,959 to 761. The decrease in cost is due to O&M cost being mistakenly included in the past ICR. This ICR does not include O&M due to them not being relevant.

Courtney Kerwin,
Director, Regulatory Support Division.

[FR Doc. 2022-11352 Filed 5-25-22; 8:45 am]

BILLING CODE 6560-50-P